DEPARTMENT OF HOMELAND SECURITY

Federal Emergency Management Agency

RIN 1660-ZA04

Privacy Act of 1974; Updating the Student Application and Registration System of Records

AGENCY: Federal Emergency Management Agency (FEMA), Emergency Preparedness and Response (EP and R) Directorate, Department of Homeland Security (DHS).

ACTION: Notice of proposed revision to an existing Privacy Act system of records.

SUMMARY: Pursuant to the Privacy Act of 1974 (5 U.S.C. 552a), FEMA proposes to upgrade the system of records currently entitled “Student Application and Registration Records, FEMA/NETC/-017,” by amending the method of collecting the information from hard copy only to hard copy and electronic. FEMA is also modifying this system of records to reflect its transfer to DHS. Subsections 552a(e)(4) and (11) of Title 5, United States Code, provide that the public be given a 30-day period in which to comment on routine uses. The Office of Management and Budget (OMB), which has oversight responsibility under the Act, requires a 40-day period in which to review the proposed systems.

DATES: The proposed system of records will be effective November 15, 2004, unless comments are received that result in a contrary determination. The public, OMB and Congress are invited to comment on the proposed system of records.

ADDRESSES: We invite your comments on this system of records. Please address them to the Rules Docket Clerk, Office of the General Counsel, Federal Emergency Management Agency, room 840, 500 C Street, SW., Washington, DC 20472, (telefax) (202) 646-4536, or (email) FEMA-RULES@dhs.gov.

FOR FURTHER INFORMATION CONTACT: Rena Y. Kim, Privacy Act Officer, room 840, 500 C Street, SW., Washington, DC 20472; (telephone) (202) 646-3949.

SUPPLEMENTARY INFORMATION: Prior to March 1, 2003, FEMA was an independent agency within the Federal government. While operating as an independent agency, FEMA established this Privacy Act system of records. See 55 FR 37182, Sept. 7, 1990; 52 FR 324, Jan. 5, 1987; 49 FR 45257, Nov. 15, 1984; 48 FR 12132, Mar. 23, 1982; 47 FR 53483, Nov. 26, 1982; 46 FR 49726, Oct. 7, 1981; 45 FR 67830, Oct. 14, 1980; and 45 FR 51431, Aug. 1, 1980. As of March 1, 2003, FEMA became a component of EP and R, which is a Directorate of DHS. The previous notice is, therefore, being updated in part to reflect the transfer of FEMA's functions to the EP and R Directorate within DHS and in part to reflect a conversion in the type of records being maintained in this system.

This system of records contains information provided by individuals applying for courses offered by the National Fire Academy (NFA) and the Emergency Management Institute (EMI) on-campus and off-campus, by State and local training agencies, through selected colleges and universities, and through independent self-study. Information collected includes citizenship (city and country of birth for non-U.S. citizens), social security number or an alternate number that has been assigned in lieu of the social security number, name, mailing address, work phone number, alternate phone number, fax number, e-mail address, course code and title, course location, dates requested, course pre-requisite as described in the course catalog, special assistance request, name and address of the organization being represented, fire department identification number, current position and years in that position, category of the position, jurisdiction type, type of work for the organization, organization type, employment status, number of staff in the organization, size of population served by the organization, brief description of the activities or responsibilities as they relate to the course for which they are applying, primary responsibility and type of experience, number of years of experience, date of birth, sex, ethnicity and race. Information such as age, sex, and ancestral heritage are used for statistical purposes only and are provided on a voluntary basis. The social security number is necessary because of the large number of individuals who may have identical names and birth dates and whose identities can only be distinguished by their social security number. Disclosure of an individual's social security number is voluntary. However, if an applicant does not provide a social security number, a unique identification number will be substituted, which will affect the ability to retrieve complete training information on an applicant. The information is contained in the National Emergency Training Center (NETC) Admissions System. It will consist of computerized files and paper records retrieved by name or social security number.

Dated: September 29, 2004.
David A. Trissell,
General Counsel, Emergency Preparedness and Response, Department of Homeland Security.

Accordingly, we add DHS/EP and R/FEMA/NETC/017, of the FEMA Privacy Act systems of records to read as follows:

System name:

Student Application and Registration Records.

Security classification:

Unclassified.

System location:

NETC, 16825 South Seton Avenue, Emmitsburg, Maryland 21727-8998.

Categories of individuals covered by the system:

The system covers those individuals who apply for or take courses offered by FEMA's NFA or EMI. Courses are offered on-campus and off-campus, by State and local training agencies, through selected colleges and universities, and through independent self-study. Information can be obtained by individuals completing a general admissions application or by applying for a course electronically. Information may also be provided by a State or local training agency when the course has been taken through that agency.

Categories of records in the system:

Files include application forms and other information submitted either in hard copy or electronically by the applicant. Information collected includes, but is not limited to, U.S. citizenship (city and country of birth is also included for non-U.S. citizens), social security number or an alternate number that has been assigned in lieu of the social security number, name, mailing address, work phone number, alternate phone number, fax number, email address, course code and title, course location, dates requested, course pre-requisite as described in the course catalog, an indication if they require special assistance, name and address of the organization being represented, fire department identification number, current position and years in that position, category of the position, jurisdiction type, type of work for the organization, organization type, employment status, number of staff in the organization, size of population served by the organization, brief description of the activities or responsibilities as they relate to the course for which they are applying, primary responsibility and type of experience, number of years of experience, date of birth, sex, ethnicity and race. Information such as age, sex, and ancestral heritage are used for statistical purposes only. Personal information is provided on a voluntary basis. Failure to provide certain information being requested, however, may result in a delay in processing an application because the information provided may be insufficient to determine eligibility for the course. The social security number is necessary because of the large number of individuals who may have identical names and birth dates and whose identities can only be distinguished by their social security number. The social security number is used for record-keeping purposes, i.e., to ensure that academic records are maintained accurately. Disclosure of an individual's social security number is voluntary. However, if an applicant does not provide a social security number, a unique identification number will be substituted, which will affect the ability to retrieve complete training information on an applicant.

Authority for maintenance of the system:

Pub. L. 93-498, Federal Fire Prevention and Control Act of 1974, as amended; Pub. L. 93-288, Robert T. Stafford Disaster Relief and Emergency Assistance Act; Pub. L. 93-579, 44 U.S.C. 3101; Privacy Act of 1974; E.O. 12127; E.O. 12148; and Reorganization Plan No. 3 of 1978; 5 U.S.C. 301; Presidential Memorandum, “Electronic Government's Role in Implementing the President's Management Agenda,” July 10, 2002; 15 U.S.C. 2206, 44 U.S.C. 3101; 50 U.S.C. App. 2253 and 2281; E.O. 12127, 12148 and 9397; Title VI of the Civil Rights Act of 1964; and Section 504 of the Rehabilitation Act of 1973. Executive Order 9397 authorizes the collection of the social security number.

Purpose(s):

For the purpose of determining eligibility and effectiveness of NFA and EMI courses; to reimburse students under the Student Stipend Program, and to provide housing to students and other official guests of the NETC. Information such as age, sex, and ancestral heritage are used for statistical purposes only.

Routine uses of records maintained in the system, including categories of users and the purposes of such uses:

Information in this system may be disclosed as a routine use as follows:

1. Audits and Oversight: To an agency, organization, or individual for the purposes of performing authorized audit or oversight operations.

2. Congressional Inquiries: To a congressional office from the record of an individual in response to an inquiry from that congressional office made at the request of the individual to whom the record pertains.

3. Contractors, et al: To contractors, grantees, experts, consultants, students, and others performing or working on a contract, service, grant, cooperative agreement, or other assignment for the Federal government, when necessary to accomplish an agency function related to this system of records.

4. Investigations: Where a record, either on its face or in conjunction with other information, indicates a violation or potential violation of law—criminal, civil or regulatory—the relevant records may be referred to an appropriate Federal, State, territorial, tribal, local, international, or foreign agency law enforcement authority or other appropriate agency charged with investigating or prosecuting such a violation or enforcing or implementing such law.

5. Litigation: To the Department of Justice (DOJ) or other Federal agency conducting litigation or in proceedings before any court, adjudicative or administrative body, when: (a) DHS, or (b) any employee of DHS in his/her official capacity, or (c) any employee of DHS in his/her individual capacity where DOJ or DHS has agreed to represent the employee, or (d) the United States or any agency thereof, is a party to the litigation or has an interest in such litigation and when the records are determined by the DHS to be arguably relevant to the proceeding

6. Privacy Act Verification and Amendment: To a federal, State, territorial, tribal, local, international, or foreign agency or entity for the purpose of consulting with that agency or entity (a) to assist in making a determination regarding access to or amendment of information, or (b) for the purpose of verifying the identity of an individual or the accuracy of information submitted by an individual who has requested access to or amendment of information.

7. Privacy/Act FOIA Access and Amendment: To the submitter or subject of a record or information to assist DHS in making a determination as to access or amendment.

8. Records Management: To the National Archives and Records Administration or other Federal government agencies pursuant to records management inspections being conducted under the authority of 44 U.S.C. sections 2904 and 2906.

9. Requesting Information: To a Federal, State, local, tribal, territorial, foreign, or international agency, if necessary to obtain information relevant to a DHS decision concerning the hiring or retention of an employee, the issuance of a security clearance, the reporting of an investigation of an employee, the letting of a contract, or the issuance of a license, grant or other benefit.

10. Requested Information: To a Federal, State, local, tribal, territorial, foreign, or international agency, in response to its request, in connection with the hiring or retention of an employee, the issuance of a security clearance, the reporting of an investigation of an employee, the letting of a contract, or the issuance of a license, grant, or other benefit by the requesting agency, to the extent that the information is relevant and necessary to the requesting agency's decision on the matter.

11. Medical Assistance: To a physician(s) in order to provide information from the application for students who become ill or are injured during courses and are unable to provide the information.

12. Boards of Visitors: To members of the NFA and EMI Boards of Visitors Federal advisory committees for the purpose of evaluating NFA's and EMI's programmatic statistics.

13. Sponsors: To sponsoring States, local officials, or state agencies to update/evaluate statistics on NFA and EMI educational program participation.

Disclosure to consumer reporting agencies:

Records in this system do not qualify for the purpose of disclosure to consumer reporting agencies.

Policies and practices for storing, retrieving, accessing, retaining, and disposing of records in the system:

Storage:

Copies of paper applications as well as information maintained electronically are stored in a work area that is locked when it is not staffed. The doors to the work area are kept closed and signs stating that access is limited to authorized personnel are posted on the doors. There is limited access given to persons who have a need to have access to the information to perform their official duties. Computerized records are stored in a database server in a secured file server room. Electronic records are stored on a file server in another building and backed up nightly. The backup tapes are stored in a separate area from the file server for seven days. After that they are placed in a safe in another building and retained for one year.

Retrievability:

Records can be retrieved by an individual's last name or social security number.

Safeguards:

The admissions contractor controls access to hardcopy records by keeping them in file cabinets when not being used and in a work area that is locked when it is not occupied by authorized personnel. The System Administrator controls access to the electronic files by use of passwords and the Admissions Specialist assigns rights to modules of the system based on work responsibility. The files are stored in a secure server room at FEMA's Emmitsburg facility. Records are maintained in accordance with Federal computer security standards.

Retention and disposal:

Hard copy records are maintained for one year and nine months, at which time they are retired to the Federal Records Center. Records are retained for a total of 40 years. Computerized records are stored in a database server in a secured file server room. The same retention schedule that applies to paper records will be followed. This is consistent with the records retention schedule that has been developed for this system.

System manager(s) and address:

Senior Admissions Specialist, National Emergency Training Center, 16825 South Seton Avenue, Emmitsburg, Maryland, 21727-8998.

Notification procedure:

Individuals seeking notification and access to any records contained in the system of records, or seeking to contest its content, may inquire in accordance with instructions appearing at 6 CFR Part 5, subpart B, with specific reference to the verification of identity requirements of 6 CFR 5.21.

Requests for Privacy Act protected information must be made in writing, and clearly marked as a “Privacy Act Request.” The name of the requester, the nature of the record sought, and the required verification of identity must be clearly indicated. Requests should be sent to: Privacy Act Officer, DHS/FEMA Office of General Counsel (GL), room 840, 500 C Street, SW., Washington, DC 20472.

Certain public information such as name, organizational address, organizational telephone number, email address, position title, course code and title, and the dates the course was taken are made available. All reports are based on organizational information.

Record access procedures:

Same as Notification Procedure above.

Contesting record procedures:

Same as Notification Procedure above. State clearly and concisely the information being contested, the reasons for contesting it, and the proposed amendment to the information sought.

Record source categories:

The sources are the individuals themselves, applicants to NFA or EMI courses, Federal employees, and FEMA employees and contractor support processing NFA or EMI course applications as part of their official duties.

Exemption claimed for the system:

None.

[FR Doc. 04-22363 Filed 10-4-04; 8:45 am]

BILLING CODE 9110-17-P